DEPARTMENT OF HEALTH AND HUMAN SERVICES

Centers for Medicare and Medicaid Services

[Document Identifiers: CMS-367, 367a, b, and c, CMS-1957, CMS-R-48]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Medicaid Drug Rebate Program—Manufacturers; Form No.: 0938-0578; Use: Section 1927 requires drug manufacturers to enter into and have in effect a rebate agreement with the Federal Government for States to receive funding for drugs dispensed to Medicaid recipients; Frequency: Quarterly; Affected Public: Business or other for-profit; Number of Respondents: 570; Total Annual Responses: 2,280; Total Annual Hours: 54,780.

2. Type of Information Collection Request: Extension of a currently approved collection; Title of Information Collection: SSO Report of State Buy-In Problems and Supporting Regulation at 42 CFR 407.40; Form No.: CMS-1957; Use: The CMS-1957 is issued to assist with communications between the Social Security District Offices, Medicaid State Agencies and CMS Central Offices in the resolution of beneficiary entitlement under state buy-ins. It is used when a problem arises which cannot be resolved thru normal data exchange. Frequency: On occasion; Affected Public: Individuals or households, State, Local or Tribal Government; Number of Respondents: 3,000; Total Annual Hours: 1075.

3. Type of Information Collection Request: Revision of a currently approved collection; Title of Information Collection: Hospital COP-42 CFR 482, 482.12, 482.13, 482.22, 482.27, 482.30, 482.41, 482.43, 482.53, 482.56, 482.57, 482.60, 482.61, 482.62, 482.66, 485.618, and 485.631.; Form No.: CMS-R-48 (OMB # 0938-0328); Use: Hospitals seeking to participate in the Medicare and Medicaid programs must meet the Conditions of Participation (COP) for Hospitals, 42 CFR part 482. The information collection requirements contained in this package are needed to implement the Medicare and Medicaid COP for hospitals.; Frequency: Annually; Affected Public: Business or other for-profit, Not-for-profit institutions, Federal Government, State, Local, or Tribal Gov.; Number of Respondents: 6,017; Total Annual Responses: 6,017; Total Annual Hours: 3,737,303.00.

To obtain copies of the supporting statement and any related forms for the proposed paperwork collections referenced above, access CMS's Web Site address at http://cms.hhs.gov/regulations/pra/default.asp, or E-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room: C5-14-03, 7500 Security Boulevard, Baltimore, Maryland 21244-1850.

Dated: February 6, 2003.
John P. Burke, III,
CMS Reports Clearance Officer, Office of Strategic Operations and Strategic Affairs, Division of Regulations Development and Issuances.

[FR Doc. 03-3785 Filed 2-14-03; 8:45 am]

BILLING CODE 4120-03-P